DEPARTMENT OF STATE

[Public Notice: 11596]

Review and Amendment of the Designation of ISIL Khorasan (and Other Aliases) as a Foreign Terrorist Organization

Based upon a review of the Administrative Record assembled pursuant to Section 219(a)(4)(C) of the Immigration and Nationality Act, as amended (8 U.S.C. 1189(a)(4)(C)) (“INA”), and in consultation with the Attorney General and the Secretary of the Treasury, I conclude that the circumstances that were the basis for the designation of the aforementioned organization (and other aliases) as a Foreign Terrorist Organization have not changed in such a manner as to warrant revocation of the designation and that the national security of the United States does not warrant a revocation of the designation. I also conclude that there is a sufficient factual basis to find that the following are additional aliases of the aforementioned organization (and other aliases): The Islamic State of Iraq and ash-Sham—Khorasan Province, The Islamic State of Iraq and Syria—Khorasan, Islamic State of Iraq and Levant in Khorasan Province, Islamic State Khurasan, ISISK, ISIS-K, and IS-Khorasan.

Therefore, I hereby determine that the designation of the aforementioned organization as a Foreign Terrorist Organization, pursuant to Section 219 of the INA (8 U.S.C. 1189), shall be maintained. Additionally, pursuant to Section 219(b) of the INA, as amended (8 U.S.C. 1189(b)), I hereby amend the designation of the aforementioned organization (and other aliases) as a Foreign Terrorist Organization to include the following new aliases: The Islamic State of Iraq and ash-Sham—Khorasan Province, The Islamic State of Iraq and Syria—Khorasan, Islamic State of Iraq and Levant in Khorasan Province, Islamic State Khurasan, ISISK, ISIS-K, and IS-Khorasan.

This determination shall be published in the Federal Register.

Dated: August 9, 2021.
Antony J. Blinken,
Secretary of State.

[FR Doc. 2021-26095 Filed 11-30-21; 8:45 am]

BILLING CODE 4710-AD-P